DEPARTMENT OF COMMERCE

Submission for OMB Review; Comment Request

The Department of Commerce will submit to the Office of Management and Budget (OMB) for clearance the following proposal for collection of information under the provisions of the Paperwork Reduction Act (44 U.S.C. Chapter 35).

Agency: Office of the Secretary, Office of Public Affairs.

Title: Commerce.Gov Web site User Survey.

OMB Control Number: None.

Form Number(s): N/A.

Type of Request: Regular submission (new information collection).

Number of Respondents: 36,000.

Average Hours per Response: 2 minutes.

Burden Hours: 1,200.

Needs and Uses: In order to better serve users of Commerce.gov and the Department of Commerce bureaus' Web sites, the individual Offices of Public Affairs (12) will collect information from users about their experience on the Web sites. A random number of users will be presented with a pop-up box asking if they would like to take the survey. If they answer no, the box disappears and the user continues on as normal. If they answer yes, then the box displays four (4) questions. As estimates of the number of respondents are determined for the bureaus' web sites, they will be added.

The results will be examined monthly and based upon the results, the Web sites may be tweaked to better help the visitors find what they are seeking.

Affected Public: Individuals or households.

Frequency: On occasion.

Respondent's Obligation: Voluntary.

OMB Desk Officer: Nicholas Fraser, (202) 395-5887.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to Nicholas Fraser, OMB Desk Officer, FAX number (202) 395-7285 or via the Internet at Nicholas_A._Fraser@omb.eop.gov.

Dated: February 4, 2011.
Gwellnar Banks,
Management Analyst, Office of the Chief Information Officer.

[FR Doc. 2011-2905 Filed 2-9-11; 8:45 am]

BILLING CODE 3510-03-P